DEPARTMENT OF THE INTERIOR

National Park Service

Notice of Availability of a Record of Decision, White-tailed Deer Management Plan and Final Environmental Impact Statement Catoctin Mountain Park, MD

AGENCY: National Park Service, Department of the Interior.

ACTION: Notice of Availability of a Record of Decision on the White-tailed Deer Management Plan/Final Environmental Impact Statement for Catoctin Mountain Park, Maryland.

SUMMARY: Pursuant to the National Environmental Policy Act of 1969, 42 U.S.C. 4332(2)(C), the National Park Service announces the availability of the Record of Decision for the White-tailed Deer Management Plan/Final Environmental Impact Statement (Plan/FEIS) for Catoctin Mountain Park, Maryland. The Plan/FEIS analyzed four alternatives. Alternative C, the selected alternative, includes two lethal actions that will be used in combination to reduce and control deer herd numbers. Qualified federal employees or contractors will conduct sharpshooting to reduce the deer population, and individual deer will be captured and euthanized in certain circumstances where sharpshooting is not appropriate.

DATES: The Record of Decision for the project was approved on April 17, 2009, by the Regional Director, National Capital Region, National Park Service. As soon as practicable, the National Park Service will begin to implement the Preferred Alternative contained in the Final Environmental Impact Statement issued on December 12, 2008.

FOR FURTHER INFORMATION CONTACT: Copies of the Record of Decision may be obtained from Becky Loncosky, Park Biologist, Catoctin Mountain Park, 6602 Foxville Road, Thurmont, Maryland 21788, (301) 416-0135, or Online at http://parkplanning.nps.gov/cato.

SUPPLEMENTARY INFORMATION: Alternative A was the No Action Alternative studied by the Plan/EIS. The three Action Alternatives each used different combinations of non-lethal and lethal management tools to reduce the deer population and thus address declining forest regeneration and ensure that natural processes (including the presence of deer) support native vegetation, wildlife, and the cultural landscape of the park.

All Action Alternatives included limited fencing, use of repellents around landscaped areas, deer and vegetation monitoring, data management, and research, as currently implemented under the No Action Alternative. Action Alternatives also utilize an adaptive management strategy in order to better manage based on uncertainty concerning the impacts that the change in deer population densities will have on vegetation recovery. By using an adaptive management approach, park managers will be able to change the timing or intensity of management treatments to better meet the goals of the plan as new information is obtained.

Alternative B combined several non-lethal actions including large-scale exclosures (fencing), additional use of repellents in limited areas, and reproductive control of does to gradually reduce the deer population in the park.

Alternative C will utilize two lethal actions in combination to reduce and control deer herd numbers. Qualified federal employees or contractors will conduct sharpshooting to reduce the deer population, and individual deer will be captured and euthanized in circumstances where sharpshooting is determined to be inappropriate.

Alternative D combined elements from alternatives B and C to include sharpshooting, capture and euthanasia, and reproductive control of does. For all alternatives, the full range of foreseeable environmental consequences was assessed and appropriate mitigating measures were identified.

The Record of Decision includes a description of the project's background, a statement of the decision made, synopses of other alternatives considered, the basis for the decision, findings on impairment of park resources and values, a description of the environmentally preferred alternative, a listing of measures to minimize environmental harm, and an overview of public involvement in the decision-making process.

Dated: June 2, 2009.
Margaret O'Dell,
Regional Director, National Capital Region.

[FR Doc. E9-16329 Filed 7-9-09; 8:45 am]

BILLING CODE 4312-59-P